ENVIRONMENTAL PROTECTION AGENCY

[FRL-9971-26—Region 8]

Clean Air Act Operating Permit Program; Petition for Objection to State Operating Permit for PacifiCorp Energy—Hunter Power Plant (Emery County, Utah)

AGENCY: Environmental Protection Agency (EPA).

ACTION: Notice of final order on a petition to object to a state operating permit.

SUMMARY: The EPA Administrator signed an order, dated October 16, 2017, denying the petition submitted by the Sierra Club (Petitioner) objecting to the proposed Clean Air Act (CAA) title V operating permit issued to PacifiCorp Energy. The Order responds to the April 11, 2016 petition objecting to the proposed title V operating permit #1500101002 (Hunter Permit) issued by the Utah Department of Environmental Quality, Division of Air Quality (UDAQ) for the Hunter Power Plant in Castle Dale, Emery County, Utah. The Order constitutes a final action on the petition.

ADDRESSES: You may review copies of the Order, the petition, and other supporting information at the EPA Region 8 Office, 1595 Wynkoop Street, Denver, Colorado 80202-1129. The EPA requests that if at all possible, you contact the individual listed in the FOR FURTHER INFORMATION CONTACT section to view these documents. You may view the hard copies Monday through Friday, 8 a.m. to 4 p.m., excluding federal holidays. The Order is also available electronically at: https://www.epa.gov/title-v-operating-permits/title-v-petition-database.

FOR FURTHER INFORMATION CONTACT: Patrick Wauters, Air Program (8P-AR), EPA Region 8, 1595 Wynkoop Street, Denver, Colorado 80202-1129, (303) 312-6114, wauters.patrick@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the Act, a petition for judicial review of those portions of the Order that deny issues in the petition may be filed in the United States Court of Appeals for the appropriate circuit within 60 days from the date this notice appears in the Federal Register.

The EPA received a petition from the Petitioner, requesting that the EPA object to the proposed Hunter Permit for the Hunter Power Plant. The petitioner alleges that the Hunter Permit fails to ensure compliance with applicable requirements under the CAA in that: (1) The permit fails to include Prevention of Significant Deterioration (PSD) requirements; (2) the permit includes Plantwide Applicability Limits that are unlawful and invalid; (3) the permit fails to include unpermitted Approval Order Modifications in 2010, including Best Achievable Control Technology (BACT) requirements; (4) the permit fails to include 2010 PSD requirements, including BACT, for oxides of nitrogen; and (5) UDAQ failed to respond to the Petitioner's comments.

On October 16, 2017, the Administrator issued an Order denying the petition. The Order explains the EPA's basis for denying the petition.

Dated: November 27, 2017.
Douglas H. Benevento,
Regional Administrator, Region 8.

[FR Doc. 2017-26623 Filed 12-8-17; 8:45 am]

BILLING CODE 6560-50-P